DEPARTMENT OF HEALTH AND HUMAN SERVICES

National Institutes of Health

National Center for Research Resources 2004 Strategic Plan

AGENCY: National Center for Research Resources, NIH, HHS.

ACTION: Notice.

SUMMARY: The National Center for Research Resources (NCRR), National Institutes of Health (NIH), is updating its 1998-2003 strategic plan entitled NCRR: A Catalyst for Discovery. Its purpose is to anticipate, meet, and set priorities for the biomedical research community's needs for critical research resources and technologies. The NCRR requests input from biomedical scientists to identify barriers to future research progress and to define future needs for shared research resources and technologies that facilitate NIH-supported biomedical research. The NCRR's existing 1998-2003 strategic plan may be accessed over the World Wide Web: http://www.ncrr.nih.gov/about_ncrr/plan98.asp.

DATES: Submit responses to the Office of Science Policy and Public Liaison, NCRR (see below), on or before May 15, 2003.

FOR FURTHER INFORMATION CONTACT: The Office of Science Policy and Public Liaison, NCRR/NIH/DHHS, One Rockledge Centre, 6705 Rockledge Drive MSC 7965, Suite 5046, Bethesda, MD 20892-7965, telephone 301-435-0866, FAX 301-480-3654, e-mail PLANEVAL@MAIL.NIH.GOV, Internet http://www.ncrr.nih.gov.

SUPPLEMENTARY INFORMATION: The National Center for Research Resources (NCRR) serves as a “catalyst for discovery” by creating and providing critical research technologies and shared resources. This infrastructure underpins biomedical research and enables advances that improve the health of our Nation's citizens.

The NCRR serves a unique purpose at the NIH: to develop critical research technologies and to provide cost-effective, shared, multidisciplinary resources to biomedical investigators across the spectrum of research activities supported by the NIH. The NCRR's mission is to:

(1) Create resources and develop technologies and research models that are cost-effective, accessible, and responsive to the research needs of the biomedical research community. To meet these needs the NCRR must anticipate evolving trends in basic and clinical research to ensure that resources will be available to facilitate that research.

(2) Provide shared clinical, primate, and biomedical technology resources and instrumentation for use by investigators supported by NIH. These resources, primarily centers, serve more than 10,000 researchers, who are supported through more than $1 billion of competitive awards from NIH's categorical Institutes.

(3) Develop quick, flexible approaches to new and emerging biomedical research needs and opportunities. These innovations often involve high-risk research.

(4) Strengthen the Nation's biomedical research infrastructure by supporting institutional development programs that develop and enhance the capacity of institutions, including underrepresented groups, to participate in biomedical research; increasing the exposure of K-12 students, their teachers, and the public to the life sciences; and constructing or renovating biomedical research facilities.

Biomedical research investigators supported by the NIH require a broad array of technologies, tools, and materials for their research. The NCRR plays a key role in addressing trans-NIH research issues, such as access to state-of-the-art instrumentation and technologies; containment of the escalating costs of highly sophisticated research; development of appropriate, specialized research models; efforts to remedy the shortage of clinical and minority investigators; and efforts to improve the research infrastructure.

To ensure the continued relevance of its Strategic Plan, the NCRR seeks input to the following questions in terms of the issues described above:

(A) What are the most important research trend(s) that will drive biomedical research?

(B) What research resources and technologies will be critical in addressing these trend(s) and meeting biomedical investigators' needs?

(C) What strategies will eliminate barriers to progress and enhance access to research resources and technologies?

(D) Who would you recommend to serve as a panel member for NCRR's strategic planning process? Please list the name, degree, position title, department, institution name and address, phone and fax numbers, e-mail address, and specific area of expertise for each person recommended.

For your convenience we have provided a user-friendly response form at the NCRR's Strategic Planning Web site: http://www.ncrr.nih.gov/sprecommend.asp. If you do not have access, please send your responses to the above address.

Dated: January 22, 2003.
Elias A. Zerhouni,
Director, NIH.

[FR Doc. 03-1987 Filed 1-28-03; 8:45 am]

BILLING CODE 4140-01-P